ENVIRONMENTAL PROTECTION AGENCY

[ER-FRL-9008-7]

Environmental Impacts Statements; Notice Of Availability

Responsible Agency: Office of Federal Activities, General Information (202) 564-7146 or http://www.epa.gov/compliance/nepa/.

Weekly receipt of Environmental Impact Statements

Filed 04/08/2013 Through 04/12/2013

Pursuant to 40 CFR 1506.9.

Notice

Section 309(a) of the Clean Air Act requires that EPA make public its comments on EISs issued by other Federal agencies. EPA's comment letters on EISs are available at: http://www.epa.gov/compliance/nepa/eisdata.html.

EIS No. 20130089, Draft EIS, USFS, ID, Clear Creek Integrated Restoration Project, Comment Period Ends: 06/03/2013, Contact: Lois Hill 208-935-4258.

EIS No. 20130090, Final EIS, USACE, CA, Eagle Rock Aggregate Terminal Project, Review Period Ends: 05/20/2013, Contact: John W. Markham 805-585-2150.

EIS No. 20130091, Draft EIS, USFWS, NPS, 00, Niobrara Confluence and Ponca Bluffs Conservation Areas Land Protection Plan, Comment Period Ends: 06/03/2013, Contact: Nick Kaczor 303-236-4387. The U.S. Department of the Interior's Fish and Wildlife Service and the National Park Service are joint lead agencies for this project.

EIS No. 20130092, Draft EIS, USFS, OR, West Bend Vegetation Management Project and Forest Plan Amendments, Comment Period Ends: 06/03/2013, Contact: Beth Peer 541-383-4769.

EIS No. 20130093, Draft EIS, USACE, FL, Lake Worth Inlet, Palm Beach Harbor Project, Comment Period Ends: 06/03/2013, Contact: Angela Dunn 904-232-2108.

EIS No. 20130094, Draft Supplement, DOE, 00, Long-Term Management and Storage of Elemental Mercury Facilities, Comment Period Ends: 06/03/2013, Contact: David Levenstein 301-903-6500.

EIS No. 20130095, Second Draft Supplement, USFS, CA, Tehachapi Renewable Transmission Project, Comment Period Ends: 06/03/2013, Contact: Lorraine Gerchas 626-574-5281.

EIS No. 20130096, Draft Supplement, USFS, WY, Long Term Special Use Authorization for Wyoming Game and Fish Commission to Use National Forest System Lands for their Winter Elk Management Activities at Alkali Creek Feedground, Comment Period Ends: 06/03/2013, Contact: Pam Bode 307-739-5513.

EIS No. 20130097, Final EIS, STB, CA, ADOPTION—California High-Speed Train: Merced to Fresno Section, Review Period Ends: 05/20/2013, Contact: David Navecky 202-245-0294. U.S. Department of Transportation's Surface Transportation Board (STB) has adopted the Federal Railroad Administration's FEIS #20120118, filed 04/18/2012. The STB was not a cooperating agency for the above FEIS. Recirculation of the document is necessary under Section 1506.3(b) of the CEQ Regulations.

EIS No. 20130098, Draft EIS, FAA, TX, SpaceX Texas Launch Site, Comment Period Ends: 06/03/2013, Contact: Stacey M. Zee 202-267-9305.

EIS No. 20130099, Final EIS, USFWS, OH, Proposed Habitat Conservation Plan and Incidental Take Permit for the Indiana Bat (Myotis sodalis) for the Buckeye Wind Power Project, Review Period Ends: 05/20/2013, Contact: Megan Seymour 614-416-8993 ext. 16.

Amended Notices

EIS No. 20130031, Draft EIS, USN, CA, U.S. Navy F-35C West Coast Homebasing, Comment Period Ends: 05/07/2013, Contact: Amy Kelley 619-532-2799. Revision to FR Notice Published 2/15/201; Extending Comment Period from 4/22/2013 to/5/7/2013.

EIS No. 20130044, Draft EIS, FHWA, NV, Pyramid Way and McCarran Boulevard Intersection Improvement Project, Comment Period Ends: 04/30/2013, Contact: Abdelmoez Abdalla, 775-687-1231. Revision to FR Notice Published 04/11/2013; Extending Comment Period from 4/15/2013 to 04/30/2013.

Dated: April 16, 2013.
Cliff Rader,
Director, NEPA Compliance Division, Office of Federal Activities.

[FR Doc. 2013-09280 Filed 4-18-13; 8:45 am]

BILLING CODE 6560-50-P